SMALL BUSINESS ADMINISTRATION

13 CFR Chapter I

[Docket No.: SBA-2011-0012]

Reducing Regulatory Burden; Retrospective Review Under E.O. 13563

AGENCY: Small Business Administration.

ACTION: Request for information.

SUMMARY: In response to the President's Executive Order 13563, Improving Regulation and Regulatory Review, the Small Business Administration (SBA) has developed a preliminary retrospective review plan for periodically analyzing its existing significant regulations to determine whether those regulations should be modified, streamlined, expanded or repealed. SBA is inviting members of the public to submit comments on this review plan, including the list of candidate rules for review. The goal of the retrospective review is to make SBA's regulatory program more effective and less burdensome in achieving the agency's regulatory objectives, while continuing to promote economic growth, innovation, and job creation within the small business community

DATES: Comments must be received on or before July 25, 2011.

ADDRESSES: You may submit comments, identified by Docket No. SBA-2011-0012 using any of the following methods:

• Federal eRulemaking Portal: http://www.regulations.gov. Identify comments by “Docket No. SBA-2011-0012, Regulatory Burden RFI,” and follow the instructions for submitting comments.

• Mail: U.S. Small Business Administration, Office of the General Counsel, 409 Third Street, SW., Washington, DC 20416.

SBA will post comments on http://www.regulations.gov. If you wish to submit confidential business information (CBI) as defined in the User Notice at http://www.regulations.gov, please submit the information to Martin S. Conrey, Assistant General Counsel for Legislation and Appropriations, Office of General Counsel, 409 Third Street, SW., Washington, DC 20416. Highlight the information that you consider to be CBI, and explain why you believe this information should be held confidential. SBA will review the information and make the final determination of whether it will publish the information.

FOR FURTHER INFORMATION CONTACT: Martin S. Conrey, Assistant General Counsel for Legislation and Appropriations, Office of the General Counsel, 409 Third Street, SW., Washington, DC 20416; telephone 202-619-0638.

SUPPLEMENTARY INFORMATION: On January 18, 2011, President Obama issued Executive Order 13563, “Improving Regulation and Regulatory Review.” The Executive Order requires Federal agencies to seek more affordable, less intrusive ways to achieve policy goals and give careful consideration to the benefits and costs of their regulations. The Executive Order also requires agencies to develop a preliminary plan for reviewing their regulations to determine, among other things, if they are outdated, ineffective, insufficient, or excessively burdensome on the public. On March 14, 2011, as part of SBA's implementation of the Executive Order, the agency published a notice in the Federal Register soliciting comments to assist the agency in the development of the preliminary plan required by the Executive Order, and to identify whether any of SBA's existing regulations should be modified, streamlined, expanded or repealed (76 FR 13532). SBA received 11 comments in Regulations.gov from a mix of small business trade organizations, a small business owner, an SBA loan program participating lender, an advocacy and research organization, associations of research universities, and members of the general public. Those comments are summarized in the SBA's Preliminary Plan for Retrospective Review of Existing Regulations (May 17, 2011), which is posted on the agency's Open Government Web site at http://www.sba.gov/content/sba-preliminary-plan-retrospective-analysis-existing-rules). In addition to the Federal Register notice, SBA solicited ideas during the Small Business Jobs Act Tour (see http://www.sba.gov/jobsacttour) and the Startup America: Reducing Barriers roundtable events (see http://www.sba.gov/content/startup-america-reducing-barriers-roundtables.) Comments provided at these events will be considered in developing the final plan.

To ensure that the plan meets the objectives of the Executive Order and to benefit from the expertise of interested members of the public, the SBA is now requesting public comments on this preliminary plan before finalizing it. To comment on the preliminary plan, visit http://www.regulations.gov and insert SBA-2011-0012 in the “Enter Keyword or ID” box. Once you are taken to the docket for the plan, click on the “Submit a Comment” bubble to open the comment form. When providing input, the SBA requests that commenters provide as much detail as possible and provide empirical evidence and data to support responses. The SBA will consider the public comments in development of the agency's final plan as well as the retrospective analysis of the rules.

SBA notes that this Request for comments is issued solely for information and program-planning purposes. SBA will give careful consideration to the responses, and may use them as appropriate during the retrospective review, but we do not anticipate providing a point-by-point response to each comment submitted. While responses to this request for comments do not bind the Agency to any further actions related to the response, all submissions will be made publically available on http://www.regulations.gov.

Authority: 15 U.S.C. 5(b)(6), E.O. 13653, 76 FR 3821.

Dated: June 16, 2011.
Michael A. Chodos,
Deputy General Counsel.

[FR Doc. 2011-15667 Filed 6-22-11; 8:45 am]

BILLING CODE 8025-01-P